DEPARTMENT OF TRANSPORTATION

Pipeline and Hazardous Materials Safety Administration

[Docket No. PHMSA-2012-0086]

Pipeline Safety: Information Collection Activities, Excess Flow Valve Census

AGENCY: Pipeline and Hazardous Materials Safety Administration (PHMSA), DOT.

ACTION: Notice and request for comments.

SUMMARY: In accordance with the Paperwork Reduction Act of 1995, PHMSA invites comments on a new one-time Information Collection (IC) on Excess Flow Valves (EFVs). PHMSA will request approval for this new information collection from the Office and Management and Budget (OMB). The collection involves a census of gas operators to gather data on operators' experiences, practices, benefits, and costs associated with the use of EFVs. This data is necessary to conduct a cost-benefit analysis of requiring an expansion in the use of EFVs.

DATES: Interested persons are invited to submit comments on or before July 16, 2012.

ADDRESSES: Comments may be submitted in the following ways:

E-Gov Web Site: http://www.regulations.gov. This site allows the public to enter comments on any Federal Register notice issued by any agency.

Fax: 1-202-493-2251.

Mail: Docket Management Facility; U.S. DOT, 1200 New Jersey Avenue SE., West Building, Room W12-140, Washington, DC 20590-0001.

Hand Delivery: Room W12-140 on the ground level of the West Building, 1200 New Jersey Avenue SE., Washington, DC, between 9:00 a.m. and 5:00 p.m., Monday through Friday, except Federal holidays.

Instructions: Identify the docket number, PHMSA-2012-0086, at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000 (65 FR 19477) or visit http://www.regulations.gov before submitting any such comments.

Docket: For access to the docket or to read background documents or comments, go to http://www.regulations.gov at any time or to Room W12-140 on the ground level of the West Building, 1200 New Jersey Avenue SE., Washington, DC, between 9 a.m. and 5 p.m., Monday through Friday, except Federal holidays. If you wish to receive confirmation of receipt of your written comments, please include a self-addressed, stamped postcard with the following statement: “Comments on PHMSA-2012-0086.” The Docket Clerk will date stamp the postcard prior to returning it to you via the U.S. mail. Please note that due to delays in the delivery of U.S. mail to Federal offices in Washington, DC, we recommend that persons consider an alternative method (internet, fax, or professional delivery service) of submitting comments to the docket and ensuring their timely receipt at DOT.

FOR FURTHER INFORMATION CONTACT: Cameron Satterthwaite by telephone at 202-366-1319, by fax at 202-366-4566, or by mail at U.S. DOT, PHMSA, 1200 New Jersey Avenue SE., PHP-30, Washington, DC 20590-0001.

SUPPLEMENTARY INFORMATION: Section 1320.8(d), Title 5, Code of Federal Regulations requires PHMSA to provide interested members of the public and affected agencies an opportunity to comment on information collection and recordkeeping requests. This notice identifies a new one-time information collection request that PHMSA will be submitting to OMB for approval. The information collection will be titled: “Information Collection on Excess Flow Valves.”

In 1996, PHMSA's predecessor agency, the Research and Special Programs Administration (RSPA), issued a final rule adopting a performance standard for the use of excess flow valves (EFVs) in single-family-residence service lines (61 FR 31449; codified at 49 CFR 192.381). That standard only applied to the EFVs voluntarily installed on service lines that operated at pressures at or above 10 pounds per square inch gas (psig) on a continuous basis throughout the year.

In 2001, the National Transportation Safety Board (NTSB) issued Safety Recommendation P-01-2 to RSPA. This recommendation, which was based on the results of NTSB's investigation into a 1998 natural pipeline accident that occurred in South Riding, Virginia, advised RSPA to require the installation of EFVs in all new and renewed gas service lines, regardless of a customer's classification, when operating conditions are compatible with readily available valves.

On December 29, 2006, Congress enacted the Pipeline Inspection, Protection, Enforcement, and Safety (PIPES) Act of 2006 (Pub. L. 109-468). Section 9 of the PIPES Act (codified at 49 U.S.C. 60109(e)) stated that “[n]ot later than December 31, 2007, the Secretary [of Transportation] shall prescribe minimum standards for integrity management programs for distribution pipelines.” Section 9 further stated that those “minimum standards shall include a requirement for an operator of a natural gas distribution system to install an excess flow valve on each single family residence service line” under certain prescribed conditions.

In 2009, PHMSA issued the Distribution Integrity Management Program (DIMP) final rule (74 FR 63906). The DIMP final rule required that operators install EFVs on all new or replaced service lines serving single family residences, subject to certain exceptions (e.g., if a line does not operate at or above 10 psig throughout the year, if contaminants in the gas stream could affect the operation of an EFV or cause service interruptions, if installation of an EFV could interfere with operations and maintenance activities, or if an acceptable EFV is not commercially available) (codified at 49 CFR 192.383).

In 2011, PHMSA also published an Advance Notice of Proposed Rulemaking (ANPRM) (November 25, 2011; 76 FR 72666) seeking public comment on several issues relating to the expanded use of EFVs in gas distribution systems. During the comment period, President Obama signed the Pipeline Safety, Regulatory Certainty, and Job Creation Act of 2011. Section 22 of the Act (codified in Section 60109(e)(3)(B)) states that “[n]ot later than 2 years after the date of enactment of the Pipeline Safety, Regulatory Certainty, and Job Creation Act of 2011, and after issuing a final report on the evaluation of the National Transportation Safety Board's recommendation on excess flow valves in applications other than service lines serving one single family residence, the Secretary, if appropriate, shall by regulation require the use of excess flow valves, or equivalent technology, where economically, technically, and operationally feasible on new or entirely replaced distribution branch services, multifamily facilities, and small commercial facilities.”

To comply with Congress's recent mandate and address NTSB's prior safety recommendation, PHMSA needs comprehensive data on the operations, costs, and benefits of EFVs, as well as information on how those operations, costs, and benefits may vary for other customer classification service lines (in addition to single family residence service lines). This information collection will provide the data necessary to conduct a cost-benefit analysis of EFVs for different customer classification service lines.

PHMSA is proposing to use an online census for this information collection. A copy of the census will be placed in the docket for comment. The following information is provided for this information collection: (1) Title of the information collection; (2) OMB control number; (3) Type of request; (4) Abstract of the information collection activity; (5) Description of affected public; (6) Estimate of total annual reporting and recordkeeping burden; and (7) Frequency of collection. PHMSA will request a three-year term of approval for this information collection activity.

PHMSA requests comments on the following information collection:

Title: Information Collection on Excess Flow Valves.

OMB Control Number: Pending.

Type of Request: New information collection.

Abstract: PHMSA is conducting a census of gas operators to gather data on operators' experiences, practices, benefits, and costs with EFVs. This data is necessary in order to conduct a cost-benefit analysis of requiring an expansion in the use of EFVs.

Affected Public: Gas Operators.

Estimated number of responses: 1,235 operators.

Estimated annual burden hours: 19,760.

Frequency of collection: One-time collection.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Dated: Issued in Washington, DC, on May 3, 2012.
Alan K. Mayberry,
Deputy Associate Administrator for Field Operations.

[FR Doc. 2012-11715 Filed 5-14-12; 8:45 am]

BILLING CODE 4910-60-P